DEPARTMENT OF DEFENSE

Department of the Army, Corps of Engineers

Separation and Independent Evaluation of the Proposed Halligan and Seaman Water Management Projects in Northeastern Colorado

AGENCY: Department of the Army, U.S. Army Corps of Engineers, DoD.

ACTION: Notice.

SUMMARY: On February 1, 2006, the Omaha District, U.S. Army Corps of Engineers (USACE) published a Notice of Intent to Prepare an Environmental Impact Statement (EIS) to jointly analyze the direct, indirect and cumulative effects of two water supply projects that were proposed collectively as the Halligan-Seaman Water Management Project. USACE has determined that the two projects will be separated and independently evaluated as the Halligan Water Supply Project EIS and the Seaman Water Supply Project EIS. Constructing the proposed Projects would impact jurisdictional waters of the United States, thereby requiring Clean Water Act Section 404 permits. The Cities of Fort Collins and Greeley (Cities) have proposed the Projects to meet existing and future water demands during droughts, more efficiently manage the Cities' existing or future water rights, provide some operational redundancy, and possibly enhance river functions. The proposed Projects involve enlarging two existing reservoirs, Halligan Reservoir and Milton Seamen Reservoir (Seaman Reservoir), which would provide approximately 56,125 acre-feet of additional storage capacity in the Cache la Poudre River Basin. The Halligan and Seaman Water Supply Projects would both be non-federal projects constructed, owned and operated by the Cities.

FOR FURTHER INFORMATION CONTACT: Questions regarding the proposed action and Draft EISs should be addressed to Cody Wheeler, Project Manager, U.S. Army Corps of Engineers, 9307 South Wadsworth Boulevard, Littleton, CO 80128-6901; cody.s.wheeler@usace.army.mil.

SUPPLEMENTARY INFORMATION: In 2006, the Cities of Fort Collins and Greeley and six other water providers (Participants) had originally proposed to replace the existing dams with new, larger dams immediately downstream of the existing Halligan and Seaman dams. This would have provided 88,592 acre-feet of additional storage capacity. The Participants were composed of water providers in the region and included three water districts collectively known as the Tri-District including North Weld County Water District, Fort Collins-Loveland Water District, and East Larimer County Water District; the City of Evans; the North Poudre Irrigation Company; and the Water Supply and Storage Company. However, six participants have terminated their participation in the Halligan and Seaman water supply projects leaving Fort Collins and Greeley as the sole project proponents. The additional storage capacity needed has accordingly decreased from 88,592 to 56,125 acre-feet. This smaller amount of needed storage might be provided by raising the existing Halligan and Seaman dams rather than replacing them with larger new dams immediately downstream.

Water stored in the expanded reservoirs would address municipal and industrial water demands as well as some agricultural demands. Preliminary analyses by the Cities indicate that the enlarged reservoirs would fill primarily during the summer and fall months from North Fork Poudre River flows. Seaman Reservoir would also fill via a pump station on the Poudre River main stem near the dam site. Small releases are proposed throughout the year on a periodic basis to maximize operational efficiency. The cities anticipate that both reservoirs would remain mostly full except during drought periods.

USACE has completed its analysis of the purpose and need for the two projects. Alternatives to the Halligan project have been identified and USACE is evaluating the impacts of those alternatives. However, the City of Greeley has expressed concerns about USACE-identified alternatives to the Seaman project. Addressing these concerns would also delay evaluating the Fort Collins' Halligan project. Several contributing factors including the differing study schedules led Fort Collins and Greeley to request that the two projects be separated and independently evaluated. USACE carefully considered the request and determined that it is appropriate and in the best interest of all involved to independently evaluate the two projects.

The EIS will be prepared according to the USACE's procedures for implementing the National Environmental Policy Act (NEPA) of 1969, 42 U.S.C.4332(2)(c), and consistent with the USACE's policy to facilitate public understanding and review of agency proposals. Scoping as described in the original Notice of Intent (February 1, 2006 (71 FR 5250)) was completed. Although needed storage has decreased, the scopes of the two projects and the issues identified in the initial scoping process remain essentially the same. Therefore, additional public scoping meetings are not required. As part of the EIS process, a full range of reasonable alternatives including the proposed Project and no action will be evaluated.

As two separate projects, the USACE anticipates completing and releasing the Draft Halligan Water Supply EIS during the spring of 2016. The Draft Seaman Water Supply EIS will be completed at a later date. Each Draft EIS will be published for public review and comments. Public comments will be considered and addressed in each Final EIS serving as a basis for the USACE decision to issue or deny Section 404 Permits to enlarge Halligan and Seaman reservoirs.

USACE has invited the U.S. Environmental Protection Agency, the U.S. Fish and Wildlife Service, the U.S. Forest Service, Colorado Parks and Wildlife, Colorado Department of Public Health and Environment, Larimer County, and Weld County to be cooperating agencies in preparing the EISs.

Cody S. Wheeler,
Project Manager, Regulatory Branch.

[FR Doc. 2015-02086 Filed 2-3-15; 8:45 am]

BILLING CODE 3720-58-P